DEPARTMENT OF TRANSPORTATION

Federal Aviation Administration

14 CFR Part 39

[Docket No. FAA-2006-25713; Directorate Identifier 97-ANE-09; Amendment 39-14780; AD 97-06-13R1]

RIN 2120-AA64

Airworthiness Directives; Rolls-Royce plc Models RB211 Trent 892, 884, 877, 875, and 892B Series Turbofan Engines

AGENCY: Federal Aviation Administration (FAA), DOT.

ACTION: Final rule; rescission.

SUMMARY: This amendment rescinds airworthiness directive (AD) 97-06-13 for Rolls-Royce plc (RR) models RB211 Trent 892, 884, 877, 875, and 892B series turbofan engines. That AD requires inspecting and replacing certain angle gearbox and intermediate gearbox hardware, and on-going repetitive inspections of the magnetic chip detectors. That AD resulted from reports of loss of oil from the angle drive upper shroud tube, the intermediate gearbox housing, the external gearbox lower bevel box housing, and by reports of bearing failures. We intended the requirements of that AD to prevent loss of oil, which could cause an engine fire, and to prevent in-flight engine shutdowns and airplane diversions caused by oil loss and from bearing failures. Since we issued that AD, we determined that the inspections and replacements required by that AD are no longer required to correct an unsafe condition.

DATES: This AD becomes effective October 2, 2006.

ADDRESSES: You may examine the AD docket on the Internet at http://dms.dot.gov or in Room PL-401 on the plaza level of the Nassif Building, 400 Seventh Street, SW., Washington, DC.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: The FAA proposed to amend 14 CFR part 39 by rescinding an existing AD, AD 97-06-13; Amendment 39-9970, for RR models RB211 Trent 892, 884, 877, 875, and 892B series turbofan engines. That AD requires inspecting and replacing certain angle gearbox and intermediate gearbox hardware, and on-going repetitive inspections of the magnetic chip detectors. We published the proposed NPRM in the Federal Register on April 5, 2006 (71 FR 17035).

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to comment on the proposed NPRM rescission. We received no comments on the proposal.

Docket Number Change

We are transferring the docket for this AD to the Docket Management System as part of our on-going docket management consolidation efforts. The new Docket No. is FAA-2006-25713. The old Docket No. became the Directorate Identifier, which is 97-ANE-09. This final rule might get logged into the DMS docket, ahead of the previously collected documents from the old docket file, as we are in the process of sending those items to the DMS.

Conclusion

We have carefully reviewed the available data and determined that air safety and the public interest require adopting the AD rescission as proposed. We are rescinding this AD because we determined that we no longer need the inspections and replacements required by that AD to correct an unsafe condition.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD rescission will not have federalism implications under Executive Order 13132. This AD will not have a substantial direct effect on the States, on the relationship between the national government and the States, or on the distribution of power and responsibilities among the various levels of government.

For the reasons discussed above, I certify that this AD rescission:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-9970 (62 FR 23339, April 30, 1997) and by adding the following new airworthiness directive:

97-06-13R1 Rolls-Royce plc: Amendment 39-14780. Docket No. FAA-2006-25713; Directorate Identifier 97-ANE-09.

Effective Date

(a) This rescission of AD 97-09-13 becomes effective October 2, 2006.

Affected ADs

(b) This AD rescinds AD 97-06-13, Amendment 39-9970.

Applicability

(c) This action applies to Rolls-Royce plc models RB211 Trent 892, 884, 877, 875, and 892B series turbofan engines.

Issued in Burlington, Massachusetts, on September 25, 2006.
Peter A. White,
Acting Manager, Engine and Propeller Directorate,Aircraft Certification Service.

[FR Doc. E6-16045 Filed 9-29-06; 8:45 am]

BILLING CODE 4910-13-P